DEPARTMENT OF ENERGY

Federal Energy Regulatory Commission

[Project No. 14673-001]

Lock +TM Hydro Friends Fund II; Notice of Surrender of Preliminary Permit

Take notice that Lock +™ Hydro Friends Fund II, permittee for the proposed Coffeeville Lock and Dam Hydroelectric Project, has requested that its preliminary permit be terminated. The permit was issued on June 3, 2016, and would have expired on May 31, 2019.¹ The project would have been located on the Tombigbee River, in Clark and Choctaw Counties, Alabama.

¹ 154 FERC ¶ 62,094 (2016).

The preliminary permit for Project No. 14673 will remain in effect until the close of business, March 8, 2018. If the Commission is closed on this day, then the permit remains in effect until the close of business on the next day in which the Commission is open.² New applications for this site may not be submitted until after the permit surrender is effective.

² 18 CFR 385.2007(a)(2) (2017).

Dated: February 6, 2018.
Kimberly D. Bose,
Secretary.

[FR Doc. 2018-02787 Filed 2-9-18; 8:45 am]

BILLING CODE 6717-01-P